DEPARTMENT OF TRANSPORTATION

Federal Highway Administration

Environmental Impact Statement; State Of Washington

AGENCY: Federal Highway Administration (FHWA), DOT.

ACTION: Revised Notice of Intent.

SUMMARY: The Federal Highway Administration (FHWA) is issuing this revised notice to advise the public, affected Tribal nations, and agencies that an environmental impact statement (EIS) will be prepared for a proposal to expedite construction of pontoons needed to replace the floating section of the SR 520 Evergreen Point Bridge in the event of a catastrophic failure.

FOR FURTHER INFORMATION CONTACT: Randy Everett, Federal Highway Administration, 915 2nd Avenue, Room 3142, Seattle, Washington, 98174, Telephone: (206) 220-7536; Susan Haupt, Washington State Department of Transportation, 600 Stewart Street, Suite 520, Seattle, Washington, 98101, Telephone: (206) 770-3519.

SUPPLEMENTARY INFORMATION: The FHWA is issuing a Revised Notice of Intent (NOI) to advise the public of revisions to the scope of the environmental impact statement (EIS) for the proposed development of a site to build pontoons for the SR 520 bridge in case of a catastrophic failure. A NOI was published in the January 3, 2008, Federal Register. The FHWA, in cooperation with the Washington State Department of Transportation (WSDOT), has revised the scope of the EIS since that time and will prepare an EIS on a proposal to expedite construction of pontoons needed to replace the existing traffic capacity of the State Route 520 (SR 520) Evergreen Point Bridge, and to store those pontoons until they are needed for catastrophic failure response or incorporated into the anticipated SR 520 bridge replacement. FHWA and WSDOT will prepare the EIS in accordance with the provisions of the National Environmental Policy Act (NEPA), the Safe, Accountable, Flexible, Efficient Transportation Equity Act: A Legacy for Users (SAFETEA-LU), and Washington's State Environmental Policy Act (SEPA).

The EIS will evaluate potential effects on the physical, human, and natural environments. Alternatives under consideration will include (1) taking no action and (2) building a new pontoon construction facility. Each proposed location for the casting basin facility will be evaluated as a separate alternative.

Information describing the proposed action and a request for comments will be sent to appropriate Federal, State, and local agencies, and to Tribal nations, private organizations, and citizens who have previously expressed or are known to have interest in this proposal. Public and agency scoping meetings were held in January 2008 for one site under consideration in Hoquiam, Washington. Additional public and agency scoping meetings will be held to solicit comments and provide information on other sites advanced for full assessment in the project EIS in January 2009. The public, agencies, and Tribal nations will be invited to comment on the Draft EIS, and a public meeting will be held during the Draft EIS comment period. Public notice will be given of the time and place of these meetings. Project information will be available for public, agency, and Tribal nation review prior to scheduled meetings.

(Catalog of Federal Domestic Assistance Program Number 20.205, Highway Planning and Construction. The regulations implementing Executive Order 12372 regarding intergovernmental consultation on Federal programs and activities apply to this program.)

Issued on: December 17, 2008.
Stephen P. Boch,
Major Project Oversight Manager, Seattle, Washington.

[FR Doc. E9-429 Filed 1-12-09; 8:45 am]

BILLING CODE 4910-RY-P